ADVISORY COUNCIL ON HISTORIC PRESERVATION

Draft Standard Treatments To Address Rehabilitation of Historic Exterior Masonry

AGENCY: Advisory Council on Historic Preservation.

ACTION: Notice of Intent to Establish Standard Treatments for the Rehabilitation of Historic Exterior Masonry.

SUMMARY: The Department of Defense has requested the Advisory Council on Historic Preservation to establish several standard treatments for the rehabilitation of historic exterior masonry. The Advisory Council on Historic Preservation has merged them into one standard treatment document and seeks public input on it.

DATES: Submit comments on or before July 14, 2008.

ADDRESSES: Address all comments concerning this proposed standard treatment to Hector Abreu Cintrón, Office of Federal Agency Programs, Advisory Council on Historic Preservation, 1100 Pennsylvania Avenue, NW., Suite 803, Washington, DC 20004. Fax (202) 606-8647. You may submit electronic comments to: habreu@achp.gov.

FOR FURTHER INFORMATION CONTACT: Hector Abreu Cintrón, (202) 606-8517, habreu@achp.gov.

SUPPLEMENTARY INFORMATION: Section 106 of the National Historic Preservation Act requires Federal agencies to consider the effects of their undertakings on historic properties and provide the Advisory Council on Historic Preservation (“ACHP”) a reasonable opportunity to comment with regard to such undertakings. The ACHP has issued the regulations that set forth the process through which Federal agencies comply with these duties. Those regulations are codified under 36 CFR part 800 (“Section 106 regulations”).

Under Section 800.14(d) of those regulations, agencies can request the ACHP to establish “standard treatments” detailing standard methods for the treatment of a category of historic properties, a category of undertakings, or a category of effects on historic properties to assist Federal agencies in satisfying their responsibilities under Section 106.

Standard treatments carry the ACHP's explicit endorsement and can be applied by Section 106 users to assist them in complying with Section 106. Using standard treatments in the planning and design of agency undertakings as a best practice may allow an agency to make a finding of no adverse effects for the relevant aspects of the undertaking. In other cases, an agency may find its undertaking will have adverse effects on historic properties, and it can elect to use an approved standard treatment as a proposed stipulation of a memorandum of agreement or a programmatic agreement, as a way to resolve such adverse effects.

Federal agencies are not obligated to follow approved standard treatments but may elect to do so when they feel standard treatments will be of benefit in meeting their Section 106 compliance requirements.

The Department of Defense (“DOD”) has requested the ACHP to establish eighteen standard treatments, along with two implementation guidance documents, for the rehabilitation of historic exterior masonry on historic properties.

The ACHP has decided to merge all eighteen standard treatments for historic exterior masonry, and the two implementation guidance documents, into one standard treatment document. The ACHP seeks public comment on that standard treatment.

A copy of the standard treatment document, minus its appendices, can be found at the end of this notice. The appendices to that document comprise the true substance of each of the proposed, eighteen standard treatments and their two implementation guidance documents. Due to their volume, they will not be copied into this notice. However, they can be accessed in their entirety on the Internet at: http://www.achp.gov/masonryst.html. Those without access to the Internet can contact Hector Abreu Cintrón at 202-606-8517, or by e-mail at habreu@achp.gov, to arrange an alternate method of access to the appendices.

Once the public input resulting from this notice is considered, and edits are incorporated as deemed appropriate, the ACHP will decide whether to establish the standard treatment. The ACHP expects to make that decision at its upcoming quarterly meeting scheduled on August 15, 2008 in St. Louis, Missouri.

Background on the Proposed Standard Treatments on Historic Exterior Masonry

The ACHP and DOD have been collaborating to develop standard treatments to address rehabilitation of exterior building elements that are character-defining features of historic properties.

The goal is to encourage use of the Secretary of the Interior's Standards for Rehabilitation (“Secretary Standards”), 36 CFR part 67, by translating selected standards into detailed construction specifications for routine repair and maintenance undertakings that are expected to have no adverse effect on historic properties.

These Standard Treatments are designed to codify the numerous “industry standard” practices associated with routine repair and maintenance of historic properties. For instance, there are Standard Treatments for mortar analysis and repointing, and stone crack repair. The appendices to the standard treatment currently under consideration include the two implementation guidance documents (numbered 01060.01 and 01091.01) and the following eighteen standard treatments:

04100 Historic Mortar

(1) 04100.01 Removal of Mortar Joints and Repointing.

(2) 04100.02 Preparation of Lime and Cement Amended Mortars.

04110 Historic Stucco

(3) 04110.01 Preparation of Lime or Portland Based Stucco.

(4) 04110.02 Repair and Replacement of Historic Stucco 04211 Historic Brick.

(5) 04211.01 Historic Brick Properties and In Kind Replacement.

(6) 04211.02 Repair through Patching, Consolidating or Injection Grout.

04214 Terra Cotta and Ceramics

(7) 04214.01 Historic Terra Cotta and Ceramics Properties and In Kind Replacement.

(8) 04214.02 Terracotta Patching and Glaze Repair.

(9) 04214.03 Replacement anchoring.

04290 Historic Adobe Masonry Units

(10) 04290.01 Adobe Properties and In Kind Replacement.

(11) 04290.02 Repair through Patching, Surface Coatings and Structural Supports.

04400 Stone

(12) 04400.01 Identifying Masonry Types and Failures 04500 Masonry Restoration.

(13) 04500.01 Repair by Mechanical Pinning or Structural Reinforcement.

(14) 04500.02 Repair through Patching, Consolidating, and Grouting.

(15) 04500.03 Replacement In-Kind of Deteriorated Elements.

04510 Masonry Cleaning

(16) 04510.01 Cleaning and Testing of Atmospheric Soiling, Graffiti, Stains and Biogrowth.

(17) 04510.02 Appropriate Use of Wet and Dry Abrasive Cleaning Systems.

(18) 04510.03 Poulticing and Salt Removal.

DOD has consulted with the ACHP, the National Conference of State Historic Preservation Officers, the National Trust for Historic Preservation and the DOD Historic Preservation Working group. The National Park Service has been a vital partner in reviewing the draft standard treatments to verify that they are consistent with the Secretary Standards.

Development of the Standard Treatments

In formulating the draft standard treatments, and with the goal of encouraging use of the Secretary Standards, developers chose a detail construction specification format with the intent that preservation related rehabilitation practices could be incorporated easily into a project's scope.

The specification format was chosen since it is a template that project designers and engineers readily recognize. Also, developers chose to develop standard treatments that focused on undertakings instead of effects or classes of properties, as outlined in 36 CFR 800.14(d)(1).

A focus on undertakings was selected since that approach had the broadest applicability regarding military installations that have many buildings with disparate functions, but also employ the consistent use of building materials and aesthetics typical of military master planning principles.

The project started with a broad scope that addressed rehabilitation of the most common exterior elements of historically significant military properties. The initial study areas addressed rehabilitation of exterior masonry, roofing, wooden elements, and windows.

A total of seventy-three (73) draft specifications covering those disciplines were developed. However, the ACHP is only considering the issuance of the merged, initial group of eighteen (plus the two implementing guidance documents) addressed by this notice, as listed above. They are focused on exterior masonry rehabilitation.

The ACHP may consider and adopt the remaining draft standard treatments at a later date in accordance with the process defined in 36 CFR 800.14(d).

Expected Benefits

Though this project was conceived to promote best preservation practices within the military, its broad undertaking-based approach may benefit any federal agency that possesses historic properties needing rehabilitation.

As explained above, standard treatments were established as a way to assist federal agencies in their completion of Section 106 consultations. Standard treatments are to be used when an agency gets to the point of assessing adverse effects under 36 CFR 800.5, or when negotiating a Section 106 agreement under 36 CFR 800.6 or 800.14(b). This quicker path to “no adverse effect” or a Section 106 agreement can greatly reduce the consultation workload of federal agencies that intend to rehabilitate their historic properties in accordance with the Secretary Standards.

DOD has been working with ACHP to define a program alternative whereby a federal agency may use a standard treatment in order to exempt the consideration of the effects of that specific treatment from Section 106 review. However, the use of such a program alternative is not the subject of this notice and public comment.

Text of the Proposed Standard Treatment on Historic Masonry

As stated above, the appendices to the proposed standard treatment document comprise the actual substance of each of the eighteen standard treatments and the two implementation guidance documents. Due to their volume, they will not be copied into this notice. However, they can be accessed on the Internet at http://www.achp.gov/masonryst.html. Those without access to the Internet can contact Hector Abreu Cintrón at 202-606-8517, or by e-mail at habreu@achp.gov to arrange an alternate method of access to the documents.

The following is the text of the standard treatment document, minus the appendices:

Advisory Council on Historic Preservation Standard Treatment for Historic Exterior Masonry

I. Establishment and Authority: This Standard Treatment for Historic Masonry was established by the Advisory Council on Historic Preservation on (date of establishment) pursuant to 36 CFR 800.14(d).

A standard treatment is a program alternative that assists Federal agencies in meeting their obligations to comply with Section 106 of the National Historic Preservation Act, 16 U.S.C. 470f, and its implementing regulations, 36 CFR part 800 (Section 106)

II. Applicability to All Federal Agencies: This Standard Treatment may be used by any Federal agency.

III. Date of Effect: The Standard Treatment will go into effect on (date of establishment)

IV. Standard Treatment:

(A) As Basis for No Adverse Effect Determination: Work that follows the relevant standard treatments appended to this document, in conformance with the implementation guidance documents numbered 01060.01 and 01091.01 in those appendices, does not constitute an adverse effect under 36 CFR 800.5(a).

Accordingly, a Federal agency that will follow the standard treatments in such a manner may find “no adverse effects” for those aspects of its undertaking that deal with the specific works covered by the standard treatments. Except under circumstances where quantifiable scientific or qualitative historic data indicates that an alternate treatment procedure is merited, the ACHP will not object to that aspect of such a finding of “no adverse effects.”

However, the agency must still examine whether other aspects of its undertaking may adversely affect historic properties and, if so, continue the Section 106 process accordingly.

(B) As Basis for Section 106 Agreement: A Federal agency may also utilize the standard treatments and implementing guidance appended to this document as a starting point for negotiating that part of a Section 106 agreement (e.g., Memoranda of Agreement or Programmatic Agreements) that deals with the works covered by those standard treatments.

Except under unusual circumstances, the ACHP will not object to provisions on a Section 106 agreement that are consistent with the appended standard treatments.

V. Amendment: The ACHP may amend this Standard Treatment after following the same consultative process required for its initial establishment under 36 CFR 800.14(d). Such an amendment will go into effect once published in the Federal Register.

VI. Termination: The ACHP may terminate this Standard Treatment by publication of a notice in the Federal Register 30 days before the termination takes effect.

VII. Historic Properties in Tribal Lands and Historic Properties of Significance to Indian tribes and Native Hawaiian Organizations: This Standard Treatment does not apply in connection with effects to historic properties that are located on tribal lands and/or that are of religious and cultural significance to Indian tribes or Native Hawaiian organizations.

VIII. Definitions: The definitions found at 36 CFR part 800 apply to the terms used in this Standard Treatment.

IX. Appendices: [Appendices will be attached. Their full text can be accessed as explained in the notice above.]

Authority: 36 OFR 800.14(d).

Dated: June 4, 2008.
John N. Fowler,
Executive Director.

[FR Doc. E8-13007 Filed 6-11-08; 8:45 am]

BILLING CODE 4310-K6-M